ENVIRONMENTAL PROTECTION AGENCY

[OPPT-2005-0032; FRL-7720-5]

TSCA Section 21 Petition; Notice of Receipt

AGENCY: Environmental Protection Agency (EPA).

ACTION: Notice.

SUMMARY: This notice announces receipt of a petition submitted by the Ecology Center, of Ann Arbor, Michigan, under section 21 of the Toxic Substances Control Act (TSCA), and requests comments on issues raised by the petition. The petitioner requests EPA to establish regulations to prohibit the manufacture, processing, distribution in commerce, use and improper disposal of lead used in wheel balancing weights. Under TSCA section 21, the Agency must either grant or deny the petition within 90 days. The Agency will therefore respond to the petition by August 10, 2005.

DATES: Comments, identified by docket identification (ID) number OPPT-2005-0032, must be received on or before July 6, 2005.

ADDRESSES: Comments may be submitted electronically, by mail, or through hand delivery/courier. Follow the detailed instructions as provided in Unit I. of the SUPPLEMENTARY INFORMATION.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1401; e-mail address: TSCA-Hotline@epa.gov.

For technical information contact: Dave Topping, National Program Chemicals Division (7404T), Office of Pollution Prevention and Toxics, Environmental Protection Agency, 1200 Pennsylvania Ave., NW., Washington, DC 20460-0001; telephone number: (202) 566-1974; e-mail address: topping.dave@epa.gov.

SUPPLEMENTARY INFORMATION:

I. General Information

A. Does this Action Apply to Me?

You may potentially be affected by this action if you manufacture or import lead wheel weights or are an automobile tire retailer. Since other entities may also be interested, the Agency has not attempted to describe all the specific entities that may be affected by this action. If you have any questions regarding the applicability of this action to a particular entity, consult the technical person listed under FOR FURTHER INFORMATION CONTACT.

B. How Can I Get Copies of this Document and Other Related Information?

1. Docket. EPA has established an official public docket for this action under docket ID number OPPT-2005-0032. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and to Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit confidential business information (CBI) or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPPT-2005-0032. The system is an “anonymous access” system, which means EPA will not know your identity, e-mail address, or other contact information unless you provide it in the body of your comment.

ii. E-mail. Comments may be sent by e-mail to oppt.ncic@epa.gov, Attention: Docket ID Number OPPT-2005-0032. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Document Control Office (7407M), Office of Pollution Prevention and Toxics (OPPT), Environmental Protection Agency, 1200 Pennsylvania Ave., NW., Washington, DC 20460-0001.

3. By hand delivery or courier. Deliver your comments to: OPPT Document Control Office (DCO) in EPA East Bldg., Rm. 6428, 1201 Constitution Ave., NW., Washington, DC. Attention: Docket ID Number OPPT-2005-0032. The DCO is open from 8 a.m. to 4 p.m., Monday through Friday, excluding legal holidays. The telephone number for the DCO is (202) 564-8930.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public and EPA's electronic docket. If you submit the copy that does not contain CBI on disk or CD ROM, mark the outside of the disk or CD ROM clearly that it does not contain CBI. Information not marked as CBI will be included in the public version of the official record without prior notice. If you have any questions about CBI or the procedures for claiming CBI, please consult the technical person identified under FOR FURTHER INFORMATION CONTACT.

E. What Should I Consider as I Prepare My Comments for EPA?

We invite you to provide your views on the relief sought by the petitioner, and any data or information that you would like the Agency to consider in developing its response to the petition. You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Make sure to submit your comments by the deadline in this notice.

7. To ensure proper receipt by EPA, be sure to identify the docket ID number assigned to this action in the subject line on the first page of your response. You may also provide the name, date, and Federal Register citation.

II. Background

A. What is a TSCA Section 21 Petition?

Section 21 of TSCA allows citizens to petition EPA to initiate a proceeding for the issuance, amendment, or repeal of a rule under TSCA section 4, 6, or 8 or an order under section 5(e) or 6(b)(2). A TSCA section 21 petition must set forth facts that the petitioner believes establish the need for the action requested. EPA is required to grant or deny the petition within 90 days of its filing. If EPA grants the petition, the Agency must promptly commence an appropriate proceeding. If EPA denies the petition, the Agency must publish its reasons for the denial in the Federal Register. Within 60 days of denial, or the expiration of the 90-day period, if no action is taken, the petitioner may commence a civil action in a U.S. district court to compel initiation of the requested rulemaking proceeding.

B. What Action is Requested Under this TSCA Section 21 Petition?

On May 13, 2005, the Ecology Center of Ann Arbor, Michigan, petitioned EPA under section 21 of TSCA to establish regulations prohibiting the manufacture, processing, distribution in commerce, use, and improper disposal of lead wheel balancing weights.

The petition estimates that 70,000 tons per year of lead is used world-wide to manufacture wheel weights used to balance vehicle tires. It cites recent studies showing that lead deposition from wheel weights is responsible for a significant volume of lead in the environment, as the weights fall off vehicles and are gradually abraded into dust.

The petition notes that despite the shift towards unleaded gasoline and the largely successful effort to recycle car batteries, lead concentrations are disproportionately high around areas of high traffic volumes. The petition cites several studies linking high lead concentrations in urban soil or runoff to streets, parking lots, or vehicle service areas. Cited studies also show that lead concentrations in these areas can exceed standards for human and environmental health. While acknowledging that few studies have analyzed the contribution of lead wheel weights to these concentrations, the petition argues that it is reasonable to assume that wheel weights play a role in lead's persistence in highly trafficked areas.

The petition also cites lead wheel weights' contribution to the end-of-life vehicle recyclable stream and waste stream, including shredder waste. It references a report explaining that wheel weights are not removed from the waste stream because it is time-consuming to do so and the recovered lead has little value.

Alternative materials to lead in wheel weights, including tin, steel, plastic, and a zinc-based alloy, are available and are being used on some new car models, according to the petition. The petitioner argues, however, that without EPA action, U.S. vehicle manufacturers and tire dealers will continue to use lead wheel weights, both on new vehicles and in the aftermarket as tires are repaired or replaced.

The petitioner therefore asks EPA to establish regulations under TSCA that prohibit the manufacture, processing, distribution in commerce, use, and improper disposal of lead wheel balancing weights. EPA has commenced a review of this petition. Comments on the petition may be submitted by any of the methods identified in Unit I.C.

C. EPA Seeks Additional Information

In considering whether to grant or deny the petition, EPA seeks a better factual understanding of the potential risks to human health and the environment associated with lead tire weights. Therefore, EPA seeks data and information regarding the potential risks to human health and the environment associated with the potential release of contaminants from materials that may be used as substitutes for lead in tire weights, including zinc, tin, steel and polymeric materials.

Due to the time constraints of TSCA section 21, EPA will allow the public until July 6, 2005 to reply with any additional information relevant to what we are identifying below. In assisting the Agency by supplying this additional information, please follow the procedures identified in Unit I.C. concerning submitting comments.

In assessing the usability of any data or information that may be submitted, EPA plans to follow the guidelines noted in EPA's “A Summary of General Assessment Factors for Evaluating the Quality of Scientific and Technical Information” (EPA 100/B-03/001), referred to as the “Assessment Factors Document.” The document is available at the following website: http://www.epa.gov/oei/qualityguidelines/af_home.htm. The Federal Register notice for the document is available at the following website: http://www.epa.gov/fedrgstr/EPA-GENERAL/2003/July/Day-01/g16328.htm.

In particular, EPA seeks information on the following:

1. Quantitative information, data and/or case examples (e.g., recent scientific and technical studies, including analytical data results, analyses of environmental impacts, and statistical analyses) associated with the potential environmental releases to the air, surface water, ground water, and soil (particularly regarding potential releases within 1 mile of roadways, and potential releases to particularly sensitive environments or human and ecological populations) from lead tire weights and the following possible alternatives to lead tire weights: Steel tire weights; ZAMA tire weights (a zinc-based alloy consisting of zinc, aluminum, and copper); plastic metal composite tire weights; and tin tire weights.

2. Quantitative information and data (scientific and technical studies, including analytical data results, analysis of environmental impacts, statistical analyses, etc.) associated with releases of lead to the air, surface water, ground water, and soil within 1 mile of roadways from tire weights and all other sources.

3. Information on whether the following potential exposure routes associated with releases from lead (and other alternative material) tire weights is complete or accurate, and whether other possible exposure routes associated with such releases should be assessed: Dust in and near roadways; dust from roadways migrating to residential front yards, being tracked into houses and inhaled and/or ingested by children; weights and/or particles swept up by municipal street cleaners being incinerated, leading to increased levels of lead in air; weights and/or particles swept up by municipal street cleaners and landfilled, leading to increased levels of lead in ground water; vapors from home smelting of used tire weights obtained by from gas stations and small tire retailers; weights left on cars that may be collected and burned in electric arc furnaces, releasing lead vapor and particulate matter to the air; releases associated with auto shredder activities (e.g., residues released to air or water); and releases from roadways to streams resulting in potential exposures to aquatic and terrestrial species.

List of Subjects

Environmental protection.

Dated: June 14, 2005.
Wendy C. Hamnett,
Acting Director, Office of Pollution Prevention and Toxics.

[FR Doc. 05-12195 Filed 6-20-05; 8:45 am]

BILLING CODE 6560-50-S